DEPARTMENT OF THE INTERIOR

Bureau of Land Management

[WO-300-1310-PP-OSHL]

Notice of Availability of the Draft Programmatic Environmental Impact Statement for Allocation of Oil Shale and Tar Sands Resources on Lands Administered by the Bureau of Land Management in Colorado, Utah, and Wyoming

AGENCY: Bureau of Land Management, Interior.

ACTION: Notice of Availability.

SUMMARY: In accordance with the National Environmental Policy Act of 1969, as amended (NEPA), and the Federal Land Policy and Management Act of 1976, as amended, the Bureau of Land Management (BLM) has prepared Draft Resource Management Plan (RMP) Amendments and a Draft Programmatic Environmental Impact Statement (EIS) for the Allocation of Oil Shale and Tar Sands Resources on Lands Administered by the BLM in Colorado, Utah, and Wyoming, and by this notice is announcing the opening of the comment period.

DATES: To ensure that comments will be considered, the BLM must receive written comments on the Draft RMP Amendments and Draft Programmatic EIS within 90 days following the date the Environmental Protection Agency publishes its Notice of Availability in the Federal Register. The BLM will hold public meetings on the Draft Programmatic EIS. The locations of the public meetings are listed in the “SUPPLEMENTARY INFORMATION” section below. The public will be notified of the dates and times of these meetings at least 15 days in advance via local media and the project Web site listed in the “SUPPLEMENTARY INFORMATION” section below.

ADDRESSES: You may submit comments related to the Draft Programmatic EIS by any of the following methods:

• Web site: Using the online comment form available on the project Web site: http://ostseis.anl.gov. This is the preferred method of commenting.

• Mail: Addressed to: Oil Shale and Tar Sands Resources Draft Programmatic EIS, Argonne National Laboratory, 9700 South Cass Avenue—EVS/240, Argonne, Illinois 60439.

A complete, printed copy is available for review at the addresses listed in the “SUPPLEMENTARY INFORMATION” section below.

FOR FURTHER INFORMATION CONTACT: Requests for additional information on the Draft Programmatic EIS should be directed to Sherri Thompson, BLM Oil Shale and Tar Sands Resources Programmatic EIS Project Manager, BLM Washington Office, by email at sthompso@blm.gov, or by telephone at (303) 239-3758. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Draft Programmatic EIS, references, and additional information regarding oil shale and tar sands resources allocation are available at the project Web site: http://ostseis.anl.gov. An electronic copy of the Draft Programmatic EIS can be viewed in any BLM State Office public room in the three state study area and will be available through the BLM Web site at http://www.blm.gov. A complete, printed copy is available for review at the following BLM offices:

Colorado State Office, 2850 Youngfield Street, Lakewood, Colorado 80215.

Northwest District Office, 2815 H Road, Grand Junction, Colorado 81506.

Colorado River Valley Field Office, 2300 River Frontage Road, Silt, Colorado 81652.

White River Field Office, 220 East Market Street, Meeker, Colorado 81641.

Utah State Office, 440 West 200 South, Suite 500, Salt Lake City, Utah 84101.

Green River District Office, 170 South 500 East, Vernal, Utah 84078.

Price Field Office, 125 South 600 West, Price, Utah 84501.

Color Country District Office, 176 East D.L. Sargent Drive, Cedar City, Utah 84721.

Richfield Field Office, 150 East 900 North, Richfield, Utah 84701.

Canyon Country District Office, 82 East Dogwood, Moab, Utah 84532.

Monticello Field Office, 365 North Main, Monticello, Utah 84535.

Wyoming State Office, 5353 Yellowstone Road, Cheyenne, Wyoming 82009.

High Desert District Office, 280 Highway 191 North, Rock Springs, Wyoming 82901.

Kemmerer Field Office, 312 Highway 189 North, Kemmerer, Wyoming 83101.

Rawlins Field Office, 1300 North Third, Rawlins, Wyoming 82301.

The BLM will hold public meetings on the Draft Programmatic EIS to provide an overview of the document, respond to questions, and take written public comments. The meetings will be announced through local news media and the project Web site: (http://ostseis.anl.gov), at least 15 days in advance. Public meetings are currently planned for the following locations:

Rifle, Colorado; Rock Springs, Wyoming; Salt Lake City and Vernal, Utah.

At these meetings, the public will have an opportunity to provide written comments. Written comments from the meetings and additional written comments submitted during the comment period will be considered by the BLM in preparing the Final Programmatic EIS. Comments submitted after the close of the comment period will be considered to the extent practicable.

Background

In 2008, the BLM amended eight land use plans in Colorado, Utah, and Wyoming to make public lands available for potential leasing and development of oil shale resources, and two other land use plans to expand the acreage available for potential tar sands leasing in Utah, where these resources are located. These 2008 Amendments, supported by the preparation of a Programmatic EIS required under Section 369(d)(1) of the Energy Policy Act of 2005, made approximately 2,000,000 acres available for potential development of oil shale resources and approximately 431,000 acres available for potential development of tar sands resources. The 2008 Programmatic EIS and Record of Decision (ROD) amending the land use plans are available at the following Web site: http://ostseis.anl.gov, and include maps and more specific information about the geographic area studied in 2008. Information specific to the individual RMPs amended in 2008 can be found at the individual BLM Field Office Web sites, which can be accessed through http://www.blm.gov.

The BLM has decided to take a fresh look at the land use plan allocation decisions made in the 2008 ROD associated with the Programmatic EIS, in order to consider which lands should be open to future leasing of oil shale and tar sands resources. The planning area for the oil shale resource is the Piceance Basin in Colorado, the Uintah Basin in Utah, and the Green River and Washakie Basins in Wyoming. For the tar sands resources, the planning area is certain sedimentary provinces in the Colorado Plateau in Utah. The BLM, through NEPA and the BLM planning process, intends to take a hard look at whether, given the current state of technology, future leasing opportunities should be focused on lower conflict lands with the approximately 2,000,000 acres currently available for potential development of oil shale, and the approximately 431,000 acres currently available for potential development of tar sands.

A Notice of Intent to prepare this Programmatic EIS was published in the Federal Register on April 14, 2011 (76 FR 21003). This notice initiated the scoping period, which lasted from April 14 to May 16, 2011. During that period, the BLM invited the public to provide comments on the scope and objectives of the Programmatic EIS, including identification of issues and alternatives that should be considered in the Programmatic EIS analyses. Public meetings were held at seven locations across the three states. Comments were also collected via the project Web site and by mail. Approximately 28,520 individuals, organizations, and government agencies provided comments during the scoping process.

The Programmatic EIS analyzes amending the following RMPs: the White River, Grand Junction, and Glenwood Springs RMPs in Colorado; the Vernal, Price, Richfield, and Monticello RMPs in Utah; and the Kemmerer, Rawlins, and Green River RMPs in Wyoming. The purpose and need for the proposed planning action is to reassess the appropriate mix of allowable uses with respect to oil shale and tar sands leasing and potential development.

The BLM will decide whether any changes should be made to the existing land use allocation decisions, in light of the nascent character of technology for developing oil shale and tar sands resources, and any relevant new information. Specifically, the BLM is considering amending the applicable RMPs to specify whether any areas in Colorado, Utah, and Wyoming currently open for future leasing and development of oil shale or tar sands should not be made available for such leasing and development.

The Programmatic EIS analyzes four alternatives in detail for allocation of oil shale (two of these include sub-alternatives), and four analogous alternatives for allocation of tar sands. Alternative 1 is the No Action alternative, which would leave in place the current allocation decisions from the 2008 ROD. Under each of Alternatives 2 through 4, the “Action” alternatives described in brief below, something less than 1,991,222 acres (acreage opened under 2008 Programmatic EIS ROD) would be available for future consideration for leasing for commercial oil shale leasing, and something less than 431,224 acres (acreage opened under 2008 Programmatic EIS ROD) would be available for application for commercial tar sands leasing.

Alternative 2(a), the Conservation Focus Alternative, analyzes removing from possible oil shale and tar sands leasing the following kinds of areas:

(1) All areas that the BLM has identified or may identify as a result of inventories conducted during this planning process, as lands containing wilderness characteristics (preliminary information may be found in chapters 2 and 3 of the 2008 Programmatic EIS, at http://ostseis.anl.gov);

(2) The whole of the Adobe Town “Very Rare or Uncommon” area, as designated by the Wyoming Environment Quality Council on April 10, 2008 (http://deq.state.wy.us/eqc/orders/Rare%20or%20Closed%20 Cases/UandI_Final_for_DEQ.pdf);

(3) Core or priority sage grouse habitat, as defined by such guidance as the BLM or the Department of the Interior may issue;

(4) All Areas of Critical Environmental Concern (ACEC) located within the areas analyzed in the September 2008 Oil Shale and Tar Sands Resources Leasing Final EIS (2008 OSTS Programmatic EIS, chapter 2, with further discussion in chapters 3 and 4, at http://ostseis.anl.gov); and

(5) All areas identified as excluded from commercial oil shale and tar sands leasing in Alternative C of the September 2008 OSTS Programmatic EIS (see http://ostseis.anl.gov).

Under Alternative 2(b), the lands open for future leasing consideration for oil shale would be the same as those in Alternative 2(a), but only for Research, Development, and Demonstration (RD&D) leases. The BLM would issue a commercial lease only when a lessee satisfies the conditions of its RD&D lease and the regulations at 43 CFR subpart 3926 for conversion to a commercial lease. The preference right acreage, if any, which would be included in the converted lease would be specified in the RD&D lease. The environmental impacts of Alternative 2(b) would be analytically indistinguishable from those of Alternative 2(a). Only the method of obtaining a lease would be different.

Alternative 3, the Research Lands Focus Alternative, was developed by the BLM in response to several comments received during the public scoping process that suggested that the BLM should not move forward to establish commercial leasing programs for oil shale or tar sands development on public lands. The variety of concerns cited as reasons for not establishing commercial programs included: (1) The sensitivity of specific resources within the three state study area, such as lands with wilderness characteristics, visual resources, ecological resources, and cultural resources; (2) the lack of definitive information about the technologies that will be employed in commercial operations; (3) the need for the nation to focus on alternative sources of energy, such as renewable resources; and (4) in the case of oil shale, the potential recurrence of adverse socioeconomic impacts resulting from a possible boom/bust cycle of development. Under the oil shale Research Lands Focus Alternative, 10 land use plans in Colorado, Utah, and Wyoming would be amended to limit public lands available for commercial leasing to the those lands encompassed by existing oil shale RD&D leases and their associated preference right lease acreage, plus the areas encompassed by the three RD&D lease applications currently under review. For the tar sands Research Lands Focus Alternative, the lands identified as available for application for commercial leasing would be limited to those lands in the Vernal, Utah, planning area, for which there is a pending tar sands lease application.

Under Alternative 4(a), the Moderate Development Alternative, only the following kinds of areas would be excluded from commercial oil shale or tar sands leasing:

(1) The whole of the Adobe Town “Very Rare or Uncommon” area, as designated by the Wyoming Environment Quality Council on April 10, 2008 (180,910 acres total; 167,517 acres of public land, of that, 10,920 acres are already designated as a BLM Wilderness Study Area).

(2) All ACECs located within the areas analyzed in the September 2008 Oil Shale and Tar Sands Resources Leasing Final EIS; (76,666 acres in existing ACECs in the 2008 Programmatic EIS, plus additional ACEC acreage as a result of Utah and Wyoming planning efforts recently completed).

Under Alternative 4(b), the lands open for future leasing consideration for oil shale would be the same as those in Alternative 4(a), but only for RD&D leases. The BLM would issue a commercial lease only when a lessee satisfies the conditions of its RD&D lease and the regulations at 43 CFR subpart 3926 for conversion to a commercial lease. The preference right acreage, if any, which would be included in the converted lease, would be specified in the RD&D lease.

The environmental impacts of Alternative 4(b) would be analytically indistinguishable from those of Alternative 4(a). Only the method of obtaining a lease would be different. This planning initiative addresses the allocation of BLM-administered lands as closed or open to the potential leasing and development of oil shale and tar sands resources, but, as in the oil shale and tar sands planning process completed in 2008, will not disturb other management decisions contained in the RMPs governing the areas to be included in the study area.

The BLM is including in the Programmatic EIS, for reference, the mitigation measures developed during the previous oil shale and tar sands planning initiative completed in 2008, and has developed additional mitigation measures. No decision regarding the adoption of such measures is being made as part of this planning initiative; such measures may be applied, if appropriate, at the discretion of the decision-maker, at the time these resources are leased and/or developed.

The BLM has used an interdisciplinary approach to develop the Programmatic EIS in order to consider the variety of identified resource issues and concerns. Specialists with expertise in the following disciplines were involved in the developing this Programmatic EIS: Minerals and geology; wildlife and fisheries; air quality; outdoor recreation, including lands with wilderness characteristics; archeology; paleontology; hydrology; soils; sociology; and economics.

The BLM will use and coordinate public participation opportunities consistent with the NEPA and land use planning processes to assist the agency in satisfying the public involvement requirements under Section 106 of the National Historic Preservation Act (NHPA) and 36 CFR 800.2(d)(3)).

At this stage in the planning and NEPA process, the BLM has chosen Alternative 2(b) as the preferred alternative for oil shale, and Alternative 2 as the preferred alternative for tar sands.

In addition to public scoping, and under Federal requirements and policy, the BLM initiated government-to-government consultation with 26 Indian tribes, chapters, and bands with a potential interest in oil shale and tar sands resources development on BLM-administered lands in the three state study area. The BLM is also coordinating with and soliciting input from the State Historic Preservation Offices in each of the three states in the study area and from the Advisory Council on Historic Preservation. Cooperating Federal agencies on the Programmatic EIS include the National Park Service and the U.S. Fish and Wildlife Service. Other cooperating agencies include: Garfield County, Colorado; Grand County, Utah; the States of Colorado, Utah, and Wyoming; the City of Rifle, Colorado; Sweetwater County, Wyoming; Duchesne County, Utah; the Coalition of Local Governments (Wyoming); Lincoln County, Wyoming; Carbon County, Utah; and Uintah County, Utah.

In addition to notifying the public of the availability of the Draft Programmatic EIS, this notice also informs the public of an error in the Programmatic EIS. The Draft Programmatic EIS includes incorrect figures for the number of archeological and historical sites within the most geologically prospective areas in Colorado and Utah. In Colorado, the Draft Programmatic EIS states that there are 1,951 sites within the most geologically prospective oil shale area. The correct number is 2,298 sites. In Utah, the number of archeological and historic sites within the most geologically prospective oil shale lands reported in the Draft Programmatic EIS is 2,104; the number should be 3,289. For the Tar Sands areas, the Draft Programmatic EIS reports 1,846 sites; there should be 2,699 sites. Unfortunately, this error was discovered after printing of the document, but will be rectified in the Final Programmatic EIS.

Before including your address, phone number, email address, or other personal identifying information in your comment, you should be aware that your entire comment—including your personal identifying information—may be made publicly available at any time. While you can ask us in your comment to withhold your personal identifying information from public review, we cannot guarantee that we will be able to do so.

Authority: 40 CFR 1506.6 and 1506.10; 43 CFR 1610.2.

Timothy Spisak,
Deputy Assistant Director, Minerals and Realty Management.

[FR Doc. 2012-2412 Filed 2-3-12; 8:45 am]

BILLING CODE 4310-84-P